DEPARTMENT OF TRANSPORTATION

Federal Aviation Administration

14 CFR Part 71

[Airspace Docket No. 01-AWP-22]

Revision to Class E Surface Area at Marysville Yuba County Airport, CA

AGENCY: Federal Aviation Administration (FAA), DOT.

ACTION: Direct final rule, confirmation of effective date.

SUMMARY: This document confirms the effective data of a direct final rule that revises the Class E Surface Area at Marysville Yuba County Airport, CA.

EFFECTIVE DATE: 0901 UTC April 18, 2002.

FOR FURTHER INFORMATION CONTACT: Jeri Carson, Air Traffic Division, Airspace Branch, AWP-520.11, Western-Pacific Region, Federal Aviation Administration, 15000 Aviation Boulevard, Lawndale, California, 90261; telephone (310) 725-6611.

SUPPLEMENTARY INFORMATION: The FAA published this direct final rule with a request for comments in the Federal Register on February 4, 2002 (67 FR 5044). The FAA uses the direct final rulemaking procedure for a non-controversial rule when FAA believes that there will be no adverse public comment. This direct final rule advised the public that adverse comments were not anticipated, and that unless written adverse comments or written notice of intent to submit such adverse comments, were received within the comment period, the regulation would become effective on April 18, 2002. No adverse comments were received. Thus, this notice confirms the direct final rule will become effective on that date.

Issued in Los Angeles, California, on March 8, 2002.
Dawna Vicars,
Assistant Manager, Air Traffic Division, Western-Pacific Region.

[FR Doc. 02-9117 Filed 4-15-02; 8:45 am]

BILLING CODE 4910-13-M